DEPARTMENT OF THE TREASURY

United States Mint

Notification of Citizens Coinage Advisory Committee Public Meeting—October 24, 2023 (Day One) and October 25, 2023 (Day Two)

ACTION: Notice of meeting.

Pursuant to United States Code, title 31, section 5135(b)(8)(C), the United States Mint announces the Citizens Coinage Advisory Committee (CCAC) public meeting scheduled for October 24-25, 2023.

Date: October 24, 2023, and October 25, 2023.

Time: 10 a.m. to 4:30 p.m. ET (October 24, 2023) and 9 a.m. to 1:30 p.m. ET (October 25, 2023).

Location: 2nd Floor Conference Rooms, United States Mint, 801 9th Street NW, Washington, DC 20220.

Subject: Swearing-in of new CCAC member (October 24, 2023); review and discussion of candidate designs for the Benjamin Ferencz Congressional Gold Medal (October 24, 2023); review and discussion of candidate designs for the five 2025 American Women Quarters (October 24, 2023); review and discussion of candidate designs for the 2025 American Liberty Gold Coin and Silver Medal (October 25, 2023); review and approval of FY 2023 CCAC Annual Report (October 25, 2023); and discussion of recommendations for FY 2024 CCAC Annual Report and Report of the Future Numismatic Themes Working Group (October 25, 2023).

Interested members of the public may either attend the meeting in person or dial in to listen to the meeting. If you will be attending in person, please contact Jennifer Warren (jennifer.warren@usmint.treas.gov) no later than October 16, 2023. To listen to the meetings please use the following numbers [Please note individual Access Code for each meeting day]:

October 24, 2023: 332-249-0718 and Access Code: 738991705#

October 25, 2023: 332-249-0718 and Access Code: 823964828#

Interested persons should call the CCAC HOTLINE at (202) 354-7502 for the latest update on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

Members of the public interested in attending the meeting in person will be admitted into the meeting room a first-come, first serve basis as space is limited. If you will be attending in person, please contact Jennifer Warren (jennifer.warren@usmint.treas.gov) no later than October 16, 2023. In addition, all persons entering a United States Mint facility must adhere to building security protocols. This means they must consent to the search of their persons and objects in their possession while on government grounds and when they enter and leave the facility and are prohibited from bringing into the facility weapons of any type, illegal drugs, drug paraphernalia, or contraband. The United States Mint Police Officer conducting the screening will evaluate whether an item may enter into or exit from a facility based upon Federal law, Treasury policy, United States Mint policy, and local operating procedures; and all prohibited and unauthorized items will be subject to confiscation and disposal. Public will need to provide a government id (e.g., driver's license) to enter the building.

For members of the public interested in listening in or attending in person, this is a reminder that the public attendance is for listening purposes only. Any member of the public interested in submitting matters for the CCAC's consideration is invited to submit them by email to info@ccac.gov.

For Accommodation Request: If you need an accommodation to listen to the CCAC meeting, please contact the Office Equal Employment Opportunity by October 16, 2023. You can submit an email request to ReasonableAccommodations@usmint.treas.gov or call 202-354-7260 or 1-888-646-8369 (TTY).

FOR FURTHER INFORMATION CONTACT: Jennifer Warren, United States Mint Liaison to the CCAC; 801 9th Street NW, Washington, DC 20220; or call 202-354-7208.

(Authority: 31 U.S.C. 5135(b)(8)(C))

Eric Anderson,
Executive Secretary, United States Mint.

[FR Doc. 2023-20701 Filed 9-22-23; 8:45 am]

BILLING CODE 4810-37-P